FEDERAL RESERVE SYSTEM

Formations of, Acquisitions by, and Mergers of Bank Holding Companies; Correction

This notice corrects a notice (FR Doc. 03-670) published on page 1851 of the issue for Tuesday, January 14, 2003.

Under the Federal Reserve Bank of Richmond heading, the entry for Forest Merger Corporation and FBR TRS Holdings, both in Arlington, Virginia, is revised to read as follows:

A. Federal Reserve Bank of Richmond (A. Linwood Gill, III, Vice President) 701 East Byrd Street, Richmond, Virginia 23261-4528:

1. Forest Merger Corporation and FBR TRS Holdings, Inc., both in Arlington, Virginia; to become bank holding companies by merging with Friedman, Billings, Ramsey Group, Inc., and FBR Asset Investment Corporation, both in Arlington, Virginia, and thereby indirectly acquiring FBR Bancorp, Inc., Arlington, Virginia, and FBR National Bank and Trust, Bethesda, Maryland. After the merger, Applicants would be renamed Friedman, Billings, Ramsey Group, Inc.

In addition, Applicants also have applied to acquire more than 5 percent of the voting shares of Hawthorne Financial Corporation, El Segundo, California, and thereby indirectly acquire Hawthorne Savings, F.S.B., El Segundo, California.

Comments on this application must be received by February 18, 2003.

Board of Governors of the Federal Reserve System, January 21, 2003.
Jennifer J. Johnson,
Secretary of the Board.

[FR Doc. 03-1719 Filed 1-24-03; 8:45 am]

BILLING CODE 6210-01-S